DEPARTMENT OF AGRICULTURE

Farm Service Agency

Commodity Credit Corporation

Notice of Availability of the Draft Supplemental Environmental Impact Statement for the Conservation Reserve Program

AGENCY: Commodity Credit Corporation and Farm Service Agency, USDA.

ACTION: Notice of availability (NOA) and request for comments.

SUMMARY: This notice announces that the Farm Service Agency (FSA), on behalf of the Commodity Credit Corporation (CCC), has completed a Draft Supplemental Environmental Impact Statement (SEIS) to examine the potential environmental consequences associated with implementing changes to the Conservation Reserve Program (CRP) required by the Food, Conservation, and Energy Act of 2008 (2008 Farm Bill), and assist in developing new regulations. FSA is requesting comments on the Draft SEIS.

DATES: We will consider comments that we receive by April 5, 2010.

ADDRESSES: We invite you to submit comments on this Draft SEIS. In your comments, include the volume, date, and page number of this issue of the Federal Register. You may submit comments by any of the following methods:

• E-Mail: CRPcomments@tecinc.com.

• Online: Go to the Web site at http://public.geo-marine.com. Follow the online instructions for submitting comments.

• Federal eRulemaking Portal: Go to http://www.regulations.gov. Follow the online instructions for submitting comments.

• Fax: (757) 594-1469.

• Mail: CRP SEIS, c/o TEC, 11817 Canon Blvd., Suite 300, Newport News, VA 23606.

• Hand Delivery or Courier: Deliver comments to the above address.

Comments may be inspected in the Office of the Director, CEPD, FSA, USDA, 1400 Independence Ave., SW., Room 4709 South Building, Washington, DC, between 8:00 a.m. and 4:30 p.m., Monday through Friday, except holidays. A copy of the Draft SEIS is available through the FSA home page at http://www.fsa.usda.gov/FSA/webapp?area=home&subject=ecrc&topic=nep-cd or at http://public.geo-marine.com.

FOR FURTHER INFORMATION CONTACT: Matthew Ponish, National Environmental Compliance Manager, USDA, FSA, CEPD, Stop 0513, 1400 Independence Ave., SW., Washington, DC 20250-0513, (202) 720-6853, or e-mail: matthew.ponish@wdc.usda.gov. Persons with disabilities who require alternative means for communication (Braille, large print, audio tape, etc.) should contact the USDA Target Center at (202) 720-2600 (voice and TDD).

SUPPLEMENTARY INFORMATION: The 2008 Farm Bill (Pub. L. 110-246) authorizes certain changes to CRP. A Programmatic Environmental Impact Statement (PEIS) was completed in 2003 to evaluate the environmental consequences of implementing the Farm Security and Rural Investment Act of 2002 (2002 Farm Bill) provisions for CRP and a Record of Decision was published May 8, 2003 (68 FR 24848-24854). This SEIS tiers from the 2003 PEIS and, with certain exceptions, only evaluates those provisions changed in the 2008 Farm Bill governing CRP not previously addressed. The changes assessed in the SEIS include:

• In general, the CRP purposes now explicitly include addressing issues raised by state, regional and national conservation initiatives (see 16 U.S.C. 3831(a)).

• The cropping history requirements are updated to four of six years in the period from 2002 to 2007 (see 16 U.S.C. 3831b(g)(2)).

• The enrollment authority is set at 39.2 million acres through fiscal year (FY) 2009 and reduced to 32.0 million acres for fiscal years 2010, 2011, and 2012 (see 16 U.S.C. 3831(d)).

• Alfalfa and multiyear grasses and legumes in a rotation practice with an agricultural commodity may contribute towards meeting crop history requirements (see 16 U.S.C. 3831(g)).

• The authority is granted to exclude acreage enrolled under Continuous Signup and the Conservation Reserve Enhancement Program from the 25 percent cropland limitation, provided county government concurs (see 16 U.S.C. 3844 (f)(3)).

• Management activities by the participant throughout the contract term to implement the conservation plan (see 16 U.S.C. 3832(a)(5)).

• CCC may provide exceptions to general prohibitions (see 16 U.S.C. 3832 (a)(8)) on use of the property including:

○ Managed harvesting with appropriate vegetation management during named periods and with a payment reduction,

○ Managed harvesting for biomass with appropriate vegetation management during named periods and with a payment reduction,

○ Grazing of invasive species with appropriate vegetation management during named periods and with a payment reduction, and

○ Installation of wind turbines with appropriate vegetation management during named periods and with a payment reduction.

• Utilization of dryland and cash rental rates developed by the National Agricultural Statistics Service (see 16 U.S.C. 3834(c)(5)) for establishment of annual CRP rental rates.

• New incentives for socially disadvantaged farmers and ranchers, as well as limited resource farmers and ranchers and Indian tribes, to participate in conservation programs (see 16 U.S.C. 3844 (a)).

• Development of habitat for native and managed pollinators and use of CRP conservation practices that will enhance habitat for pollinators (see 16 U.S.C. 3844(h)).

Under the National Environmental Policy Act (NEPA), the EIS process provides a means for the public to provide input on program implementation alternatives and on environmental concerns. CCC provided notice of its intent (NOI) to prepare the CRP SEIS in the Federal Register on September 3, 2009 (74 FR 45606-45607), and solicited public comment on the proposed SEIS for CRP. Nine public scoping meetings were held in September and October 2009 to solicit comments on the proposed alternatives and to identify environmental concerns.

FSA considered comments gathered from the scoping process, initiated with the September 3, 2009 NOI, to develop the alternatives analyzed for the administration and implementation of CRP. The Draft SEIS assesses the following alternatives with the recommended changes to CRP:

• No Action Alternative—continuation of CRP as currently implemented.

• Action Alternative 1—full implementation of the applicable 2008 Farm Bill Provisions in accordance with current procedures.

• Action Alternative 2—implementation of CRP in accordance with applicable 2008 Farm Bill provisions exercising discretion that differs from current procedures.

The Draft SEIS also provides a means for the public to voice any suggestions they may have about the program and any ideas for rulemaking. The Draft SEIS can be reviewed online at: http://www.fsa.usda.gov/FSA/webapp?area=home&subject=ecrc&topic=nep-cd or at http://public.geo-marine.com.

The Draft SEIS was completed consistent with the National Environmental Policy Act (NEPA, 42 U.S.C. 4321-4347), the Council on Environmental Quality (CEQ) Regulations for Implementing the Procedural Provisions of NEPA (40 CFR parts 1500-1508), and FSA's regulations for compliance with NEPA (7 CFR part 799).

Signed in Washington, DC, on February 12, 2010.
Jonathan W. Coppess,
Administrator, Farm Service Agency, and Executive Vice President, Commodity Credit Corporation.

[FR Doc. 2010-3272 Filed 2-18-10; 8:45 am]

BILLING CODE 3410-05-P